DEPARTMENT OF HOMELAND SECURITY

Coast Guard

[Docket No. USCG-2012-0782]

Public Workshop on Marine Technology and Standards

AGENCY: Coast Guard, DHS.

ACTION: Notice.

SUMMARY: The American Society of Mechanical Engineers, in coordination with the United States Coast Guard, is sponsoring a two-day public workshop on marine technology and standards in Arlington, VA. We originally published a notice regarding the workshop in the Federal Register on September 10, 2012. Today's notice provides updated information regarding the workshop including registration information. The workshop will provide a unique opportunity for classification societies, industry groups, standards development organizations, government organizations, and other interested members of the public to come together for a professional exchange of information on topics ranging from technological impacts on the marine industry, corresponding coverage in related codes and standards, and government regulations.

DATES: The two-day workshop will be held on Wednesday, July 24, 2013, and Thursday, July 25, 2013. The deadline for advance registration is Monday, July 1, 2013.

See SUPPLEMENTARY INFORMATION below for a list of proposed topics, fees, and information on how to register for the workshop.

ADDRESSES: The workshop will be held at The Double Tree by Hilton Hotel, in the Crystal City neighborhood of Arlington VA. The hotel is located at 300 Army Navy Drive, Arlington, VA; the hotel phone number is (703) 416-4100. The hotel is located approximately three miles from Ronald Reagan Washington National Airport (DCA) and approximately four blocks from the Pentagon City Metro station. For registration information or to obtain further information about this workshop, visit the USCG Web site at http://www.uscg.mil/marine_event. The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting “USCG-2012-0782” in the “Search” box, and then clicking “Search.”

FOR FURTHER INFORMATION CONTACT: If you have questions about this notice you may contact a USCG/ASME representative via email at workshop@uscg.mil. You may also contact Lieutenant Commander Kenneth Hettler, Office of Design and Engineering Standards, USCG, by telephone at (202) 372-1367; or Mr. Joseph S. Brzuszkiewicz, Project Engineering Manager, ASME, by telephone at (212) 591-8533.

If you have questions on viewing or submitting material to the docket, call Docket Operations, telephone (202) 366-9826.

SUPPLEMENTARY INFORMATION:

Background and Purpose

The American Society of Mechanical Engineers/United States Coast Guard (ASME/USCG) Workshop on Marine Technology and Standards provides a unique opportunity for classification societies, industry groups, standards development organizations, government agencies, and interested members of the public to come together for a professional exchange of information on topics ranging from technological impacts on the marine industry, corresponding coverage in related codes and standards, and government regulations.

Held once every two to three years, the public workshop is sponsored by the ASME in coordination with the USCG Office of Design and Engineering Standards. ASME is a standards setting organization with wide-ranging volunteer committee membership, which includes USCG supported personnel who serve as members of various ASME committees in support of USCG missions in maritime safety and environmental protection. The USCG Office of Design and Engineering Standards is responsible for developing and promulgating national regulations and standards that govern the safe design and construction of ships and shipboard equipment, including hull structure, stability, electrical and mechanical systems, lifesaving and fire safety equipment, and related equipment approval and laboratory acceptance.

This workshop is an opportunity for the public to provide expertise on technical matters affecting the marine industry, to leverage new technologies, and to improve future policymaking, standards development, and rulemaking. The most recent workshop was held in Washington, DC, on July 29-30, 2010 (see 75 FR 8099, February 23, 2010). Public engagement on regulations and design standards enhances both the effectiveness and the quality of policy development. As an example, dialogue from the previous workshop on the safe and economical use of natural gas as a marine fuel provided valuable insight for the development of CG-521 Policy Letter No. 01-12,¹ which sets forth national policy regarding acceptable design criteria for shipboard natural gas fuel systems.

¹ CG-521 Policy Letter No. 01-12, “Equivalency Determination—Design Criteria for Natural Gas Fuel Systems,” is available for viewing at http://www.uscg.mil/hq/cg5/cg521/docs/CG-521.PolicyLetter.01-12.pdf.

Topics for the 2013 workshop are listed below and include application of various marine technologies to promote safe and environmentally conscious operation of ships and offshore vessels and platforms.

The next workshop will be held in Arlington, VA, over a two-day period on Wednesday, July 24, 2013, and Thursday, July 25, 2013. See ADDRESSES above for event location information.

Topics of Meeting

This workshop comprises a series of panel sessions over a two-day period covering a variety of topics. Proposed topics include:

Equipment and Materials

• Mooring System Integrity

• Advances in Acrylics as a Pressure Vessel Material

• Bilgewater Monitoring Using Advanced Light Scattering Technology

• Vortex Induced Vibration Design Procedure for Marine Tubular

• Grooved Pipe Joints in Shipboard Applications

Compressed Natural Gas (CNG)/Liquefied Natural Gas (LNG) Technology

• ASME Codes/Standards Applied to LNG Tank Pressure Vessel Development

• Development of a Short Sea, Intermodal Tanktainer Articulated Tug and Barge LNG Carrier

• Experiences, Challenges and Preferences of LNG as a Marine Fuel

• Design and Certification of Type C Independent Tanks for Gas Fuelled Ships

• Alternative-Fuel Engine Technology

• Application of ASME Section VIII, Division 3 to CNG Transport

Human Element and Risk Management

• Comprehensive Dynamic Positioning Proficiency Development

• Understanding Human Element in LNG Bunkering

• Risk Based Maintenance and Inspection on Vessel Machinery and Systems

• Management Perspective, Safety of Drilling and Production

• Risk Based Corrosion Management for Offshore Structures

Offshore Marine Technology

• Application of ASME Section VIII, Division 3 Design Requirements to Offshore High Pressure Equipment

• Fully Constrained Platform and Its Applications

• Dynamic Positioning Software Testing and Validation

• Development of Autonomous Underwater Platforms for Marine Applications

Regulatory and Classification Society

• Ergonomic Notations for Ships and Offshore Structures

• National Fire Protection Association (NFPA) Marine Fire Protection Codes and Standards

• Class Verification of Energy Efficiency Design Index

• Testing and Approval of Ballast Water Treatment Systems

• Acceptance of Non-ASME Pressure Vessels for Human Occupancy

Web Sites

For additional information on this workshop, visit the USCG Web site at http://www.uscg.mil/marine_event.

Registration

Registration is now open; to register for this workshop, visit the USCG Web site at http://www.uscg.mil/marine_event or the ASME Web site at http://events.asme.org/asmeuscg13. While the workshop is open to the public, meeting space is limited by room capacity. Since seating is limited, we ask anyone interested in attending the workshop to register in advance. The deadline for advance registration is Monday, July 1, 2013. Registration on the first day of the workshop will be permitted on a space-available basis. The registration fee for this event is $325 USD if submitted on or before May 31, 2013 and $375 USD if submitted after May 31, 2013. The registration fee includes admission for one person to each panel session for the two day event, several coffee breaks, and a reception on the first day of the event.

Proceedings

Material presented at the workshop will be made available to the public on the USCG Web site listed above after the conclusion of this event. For additional information on material presented at this event, you may contact one of the individuals listed above in FOR FURTHER INFORMATION CONTACT. Summaries of comments made and materials presented will be available on the docket at the conclusion of this event. To view the docket, see instructions above in ADDRESSES.

Privacy Act

Anyone can search the electronic form of comments received into any of our dockets by the name of the individual submitting the comment (or signing the comment, if submitted on behalf of an association, business, labor union, etc.). You may review a Privacy Act, system of records notice regarding our public dockets in the January 17, 2008, issue of the Federal Register (73 FR 3316).

Information on Services for Individuals With Disabilities

Persons with disabilities who require special assistance should advise us of their anticipated special needs as early as possible by one of the individuals listed above in FOR FURTHER INFORMATION CONTACT.

Adjournment

Please note that the workshop may adjourn early if all business is finished.

Authority

This notice is issued under authority of 5 U.S.C. 552(a) and 14 U.S.C. 93(a)(4).

Dated: April 12, 2013.
J.G. Lantz,
Director of Commercial Regulations and Standards, U.S. Coast Guard.

[FR Doc. 2013-09197 Filed 4-18-13; 8:45 am]

BILLING CODE 9110-04-P